DEPARTMENT OF AGRICULTURE

Agricultural Marketing Service

7 CFR Part 205

[Doc. No. AMS-NOP-16-0052; NOP-16-03]

National Organic Program (NOP); Sunset 2017 Amendments to the National List

AGENCY: Agricultural Marketing Service, USDA.

ACTION: Extension of comment period.

SUMMARY: Notice is hereby given that the comment period for the proposed rule published in the Federal Register on January 18, 2017, is extended until April 19, 2017. The rule invited comments on recommendations submitted to the Secretary of Agriculture (Secretary) by the National Organic Standards Board (NOSB) following their October 2015 meeting. The proposed rule would remove eleven substances from the National List of Allowed and Prohibited Substances (National List) for use in organic production and handling.

DATES: Comments must be received by April 19, 2017.

ADDRESSES: Interested persons are invited to submit comments via the Internet at: http://www.regulations.gov. Comments may also be submitted by mail to: Robert Pooler, Standards Division, National Organic Program, USDA-AMS-NOP, 1400 Independence Avenue SW., Room 2642-S, STOP 0268, Washington, DC 20250-0268. All comments should reference the document number and the dates and page numbers of the January 18, 2017, issue and this issue of the Federal Register. All comments received will be posted online without change, including any personal information provided, and will be made available for public inspection at the above physical address during regular business hours.

FOR FURTHER INFORMATION CONTACT: Robert Pooler, Standards Division; email: bob.pooler@ams.usda.gov; Telephone: (202) 720-3252; or Fax: (202) 205-7808.

SUPPLEMENTARY INFORMATION: A proposed rule to remove eleven substances from the National List was published in the Federal Register on January 18, 2017 (82 FR 5431). The National List identifies the substances that may and may not be used in organic production and handling. As required by the Organic Foods Production Act of 1990 (OFPA), the substances included on the National List are reviewed periodically by the NOSB, which recommends National List revisions to the Secretary. The proposed rule would remove eleven substances from the National List as recommended by the NOSB on October 29, 2015.

The 60-day comment period provided in the proposed rule would have closed March 20, 2017. The comment period for the proposed rule is extended until April 19, 2017. The Agricultural Marketing Service is extending the public comment period for an additional 30 days to ensure that interested persons have sufficient time to review and comment on the proposed rule.

Authority: 7 U.S.C. 6501-6522.

Dated: February 14, 2017.
Bruce Summers,
Acting Administrator, Agricultural Marketing Service.

[FR Doc. 2017-03250 Filed 2-16-17; 8:45 am]

BILLING CODE 3410-02-P